DEPARTMENT OF ENERGY

Federal Energy Regulatory Commission

[Docket No. OR13-11-000]

Enbridge Energy, Limited Partnership; Notice of Filing of Supplement to Facilities Surcharge Settlement

Take notice that on December 12, 2012, Enbridge Energy, Limited Partnership (Enbridge Energy), with the support of the Canadian Association of Petroleum Producers (CAPP), submitted a Supplement to the Facilities Surcharge Settlement approved by the Commission on June 30, 2004, in Docket No. OR04-2-000, at 107 FERC ¶ 61,336 (2004).

Initial comments and reply comments on the Settlement Supplement should be submitted on or before the dates indicated below.

The Commission encourages electronic submission of protests, interventions, and comments in lieu of paper using the “eFiling” link at http://www.ferc.gov. Persons unable to file electronically should submit an original and 7 copies to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on Friday, January 25, 2013.

Reply Comments: 5:00 p.m. Eastern Time on Thursday, January 29, 2013.

Dated: January 22, 2013.
Kimberly D. Bose,
Secretary.

[FR Doc. 2013-01774 Filed 1-28-13; 8:45 am]

BILLING CODE 6717-01-P